DEPARTMENT OF ENERGY

Federal Energy Regulatory Commission

[Docket No. RP03-362-000]

Williston Basin Interstate Pipeline Company; Notice of Tariff Filing

May 2, 2003.

Take notice that on April 30, 2003, Williston Basin Interstate Pipeline Company (Williston Basin), tendered for filing as part of its FERC Gas Tariff, Second Revised Volume No. 1, the following revised tariff sheets to become effective April 30, 2003:

Twelfth Revised Sheet No. 5

Tenth Revised Sheet No. 6

Tenth Revised Sheet No. 6A

Seventh Revised Sheet No. 7

Tenth Revised Sheet No. 8

Eleventh Revised Sheet No. 9

Williston Basin states that the revised tariff sheets are being filed simply to update its system maps through December 31, 2002.

Any person desiring to be heard or to protest said filing should file a motion to intervene or a protest with the Federal Energy Regulatory Commission, 888 First Street, NE., Washington, DC 20426, in accordance with sections 385.314 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 12, 2003.

Magalie R. Salas,
Secretary.

[FR Doc. 03-11511 Filed 5-7-03; 8:45 am]

BILLING CODE 6717-01-P